DEPARTMENT OF TRANSPORTATION

Federal Highway Administration

Environmental Impact Statement: Utah, Wasatch, Carbon, and Emery Counties, UT

AGENCY: Federal Highway Administration (FHWA), DOT.

ACTION: Notice of Intent.

SUMMARY: The FHWA is issuing this notice to advise the public that an Environmental Impact Statement (EIS) will be prepared for a proposed highway improvement project in Utah, Wasatch, Carbon, and Emery Counties, Utah.

FOR FURTHER INFORMATION CONTACT: Sandra Garcia, Transportation and Environmental Engineer, Federal Highway Administration, 2520 West 4700 South, Suite 9A, Salt Lake City, UT 84118, Telephone: (801) 963-0182.

SUPPLEMENTARY INFORMATION: The FHWA, in cooperation with the Utah Department of Transportation, will prepare an EIS on a proposal to improve US Highway 6 (US 6) in Utah, Wasatch, Carbon, and Emery Counties, Utah. The proposed improvements would involve reconstruction of the existing US 6 between Interstate-15 (I-15) at Spanish Fork and I-70 at Green River, a distance of about 206 kilometers (128 miles).

Improvements to the corridor are considered necessary to maximize safety by designing the highway to meet current standards and to provide for existing and future travel demand. Also, included in the proposal is the relocation of the port of entry in Helper, Utah. Alternatives under consideration include (1) taking no-action (no-build); (2) using alternate travel modes; (3) widening the existing two-lane highway to four lanes; and (4) adding passing and climbing lanes. Incorporated into and studied with the various build alternatives will be design variations of grade and alignment to improve overall safety.

Letters describing the proposed action and soliciting comments will be sent to appropriate federal, state, and local agencies, and to private organizations and citizens who have previously expressed or are known to have interest in this proposal. A series of public meetings will be held in Green River, Price, and Spanish Fork in November 2002. In addition, a public hearing will be held after the draft EIS has been prepared. The draft EIS will be available for public and agency review and comment before the public hearing.

To ensure that a full range of issues related to the proposed action is addressed and all significant issues are identified, comments and suggestions are invited from all interested parties. Comments or questions concerning the proposed action and the EIS should be directed to the FHWA at the address provided above.

(Catalogue of Federal and Domestic Assistance Program Number 20.205, Highway Research, Planning and Construction. The regulations implementing Executive Order 12372 regarding intergovernmental consultation on Federal programs and activities apply to this program.)
Issued on: October 16, 2002.
William R. Gedris,
Structural/Environmental Engineer, Salt Lake City, Utah.

[FR Doc. 02-27081 Filed 10-23-02; 8:45 am]

BILLING CODE 4910-22-M